COMMISSION ON CIVIL RIGHTS

Sunshine Act Notice

AGENCY: United States Commission on Civil Rights.

ACTION: Notice of cancelled meeting.

SUMMARY: On December 8, 2010 (75 FR 76395), the U.S. Commission on Civil Rights announced a meeting to be held on Friday, January 14, 2011 at the Commission's headquarters. It is possible that the briefing in question will be rescheduled at a future date.

The Commission is next scheduled to meet on Friday, January 28, 2011 at 11:30 a.m. EST at the Commission's offices located at 624 Ninth Street, NW., Room 540, Washington, DC 20425.

The details of the cancelled meeting are:

Date and Time: Friday, January 14, 2011; 9:30 a.m. EST.

Place: 624 Ninth Street, NW., Room 540, Washington, DC 20425.

Briefing Agenda

This briefing is open to the public.

Topic: Gender and the Wage Gap

I. Introductory Remarks by Chairman

II. Speakers' Presentations

III. Questions by Commissioners and Staff Director

IV. Adjourn Briefing

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: January 5, 2011.
David Blackwood,
General Counsel.

[FR Doc. 2011-306 Filed 1-6-11; 11:15 am]

BILLING CODE 6335-01-P